NUCLEAR REGULATORY COMMISSION

Advisory Committee On Reactor Safeguards; Revised Meeting Notice

The Agenda for the 569th ACRS meeting, scheduled to be held on February 4-6, 2010, has been revised as noted below. Notice of this meeting was previously published in the Federal Register on Thursday, January 21, 2010 (75 FR 3501-3502).

The discussion on the Draft Final Revision 1 to Regulatory Guide 1.141, “Containment Isolation Provisions for Fluid Systems,” scheduled to be held on Thursday, February 4, 2010, between 8:35 a.m. and 10 a.m., is being postponed to a future meeting. The discussion on the Draft ACRS Report on the NRC Safety Research Program, scheduled to be held on February 5, 2010, between 1 p.m. and 3 p.m., is now scheduled for February 4, 2010, between 8:35 a.m. and 10 a.m. The Preparation of ACRS Reports will now start at 1 p.m. on Friday, February 5, 2010.

A revised agenda is posted on the NRC Web site at http://www.nrc.gov/reading-rm/adams.html or http://www.nrc.gov/reading-rm/doc-collections/ACRS/.

Further information regarding this meeting can be obtained by contacting Derek Widmayer, Designated Federal Official (Telephone: 301-415-7366, E-mail: Derek.Widmayer@nrc.gov) between 7:30 a.m. and 5:15 p.m. (ET).

Dated: 01/21/2010.
Andrew L. Bates,
Advisory Committee Management Officer.

[FR Doc. 2010-1659 Filed 1-26-10; 8:45 am]

BILLING CODE 7590-01-P